ENVIRONMENTAL PROTECTION AGENCY

[EPA-HQ-OAR-2013-0566; FRL-9969-74-OAR]

Extension of Comment Period on Draft Documents Related to the Review of the Primary National Ambient Air Quality Standard for Sulfur Oxides

AGENCY: Environmental Protection Agency (EPA).

ACTION: Notice of extension of public comment period.

SUMMARY: The U.S. Environmental Protection Agency (EPA) is announcing a 30-day extension of the comment period on two draft documents titled, Risk and Exposure Assessment for the Review of the Primary National Ambient Air Quality Standard for Sulfur Oxides, External Review Draft (draft REA) and Policy Assessment for the Review of the Primary National Ambient Air Quality Standard for Sulfur Oxides, External Review Draft (draft PA). The EPA is extending the comment period for an additional 30 days to provide stakeholders and the public with additional time to review these documents and to prepare meaningful comments. The original comment period was to end on October 18, 2017. The extended comment period will now close on November 17, 2017.

DATES: The comment period for the document published in the Federal Register on September 19, 2017 (82 FR 43756) is extended. Comments must be received on or before November 17, 2017.

ADDRESSES: Submit your comments, identified by Docket ID No. EPA-HQ-OAR-2013-0566, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets. The draft REA and draft PA are available via the Internet at https://www.epa.gov/naaqs/sulfur-dioxide-so2-primary-air-quality-standards.

FOR FURTHER INFORMATION CONTACT: Dr. Nicole Hagan, Office of Air Quality Planning and Standards (Mail Code C504-06), U.S. Environmental Protection Agency, Research Triangle Park, NC 27711; telephone number: (919) 541-3153; fax number: (919) 541-5315; email: hagan.nicole@epa.gov.

SUPPLEMENTARY INFORMATION:

I. General Information

A. What should I consider as I prepare my comments for the EPA?

1. Submitting CBI. Do not submit this information to EPA through http://regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing your Comments. When submitting comments, remember to:

• Identify the notice by docket number and other identifying information (subject heading, Federal Register date and page number).

• Follow directions. The agency may ask you to respond to specific questions or organize comments by referencing a CFR part or section number.

• Explain why you agree or disagree; suggest alternative and substitute language for your requested changes.

• Describe any assumption and provide any technical information and/or data that you used.

• If you estimate potential costs or burdens, explain how you arrived at your estimate in sufficient detail to allow for it to be reproduced.

• Provide specific examples to illustrate your concerns and suggest alternatives.

• Explain your views as clearly as possible, avoiding the use of profanity or personal threats.

• Make sure to submit your comments by the comment period deadline identified.

II. Information Specific to the Documents

Two sections of the Clean Air Act (CAA) govern the establishment and revision of the national ambient air quality standards (NAAQS). Section 108 (42 U.S.C. 7408) directs the Administrator to identify and list certain air pollutants and then to issue air quality criteria for those pollutants. The Administrator is to list those air pollutants that in his “judgment, cause or contribute to air pollution which may reasonably be anticipated to endanger public health or welfare”; “the presence of which in the ambient air results from numerous or diverse mobile or stationary sources”; and “for which . . . [the Administrator] plans to issue air quality criteria . . .” (42 U.S.C. 7408(a)(1)(A)-(C)). Air quality criteria are intended to “accurately reflect the latest scientific knowledge useful in indicating the kind and extent of all identifiable effects on public health or welfare which may be expected from the presence of [a] pollutant in the ambient air . . .” (42 U.S.C. 7408(a)(2)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria . . . and the national primary and secondary ambient air quality standards . . . and shall recommend to the Administrator any new . . . standards and revisions of the existing criteria and standards as may be appropriate . . . .” Since the early 1980s, this independent review function has been performed by the Clean Air Scientific Advisory Committee (CASAC).

Presently, the EPA is reviewing the air quality criteria and primary NAAQS for sulfur oxides.¹ The EPA's overall plan for this review is presented in the Integrated Review Plan for the Primary NAAQS for Sulfur Dioxide (IRP). The EPA is currently working to finalize the Integrated Science Assessment for Sulfur Oxides—Health Criteria (ISA), the second draft of which was reviewed by the CASAC at a public meeting in March 2017 (82 FR 11449). The Risk and Exposure Assessment Planning Document for the Review of the Primary National Ambient Air Quality Standards for Sulfur Oxides (REA Planning Document) was also reviewed by the CASAC at this meeting (82 FR 11449). The draft REA and draft PA, which build on information presented in these documents, were the subject of review by the CASAC at a public meeting on September 18-19, 2017 (82 FR 37213). The EPA will consider comments received from the CASAC and the public in preparing revisions to these documents. The draft REA and PA documents, and other documents in this review, referenced above, are available on the EPA's Technology Transfer Network Web site at https://www.epa.gov/naaqs/sulfur-dioxide-so2-primary-air-quality-standards.

¹ The indicator for the current standard is sulfur dioxide.

The notice of availability for the draft REA and draft PA was originally published on September 19, 2017, with the public comment period closing on October 18, 2017 (82 FR 43756). We received a request from a member of the public to extend the comment period by 30 days. After considering this request, we are extending the comment period and, as described above, it will now close on November 17, 2017.

Dated: October 11, 2017.
Stephen Page,
Director, Office of Air Quality Planning and Standards.

[FR Doc. 2017-22678 Filed 10-17-17; 8:45 am]

BILLING CODE 6560-50-P